DEPARTMENT OF LABOR

Veterans' Employment and Training Service

Fiscal Year (FY) 2011 through FY 2013 Stand Down Grant Requests

AGENCY: Veterans' Employment and Training Service, U.S. Department of Labor.

ACTION: Announcement of funds available under the Homeless Veterans' Reintegration Program (HVRP) to support local Stand Down events in FY 2011 and tentatively available to support events in FY 2012, and FY 2013.

Funding Opportunity No: 17-805.

SUMMARY: The U.S. Department of Labor (USDOL), Veterans' Employment and Training Service (VETS) supports local Stand Down events that assist homeless Veterans. A Stand Down is an event held in a local community where homeless Veterans are provided with a wide variety of social services. VETS is now accepting applications for grant awards to fund Stand Down events in FY 2011. Stand Down funding is a non-competitive grant awarded on a first-come, first-served basis until available funding is exhausted.

Under this announcement, VETS anticipates that up to $600,000 will be available to award approximately seventy grants in each of the three fiscal years covered by this solicitation. The Federal fiscal year is the accounting period of the federal government. It begins on October 1st and ends on September 30th of the next calendar year. A maximum of $10,000 per multi-day event or $7,000 for a one-day event can be awarded. Availability of Stand Down grant funding each fiscal year will be dependent upon Congressional appropriation. Stand Down grant funding is awarded for a specific event on a specific date. Organizations planning Stand Down events in subsequent fiscal years must submit a complete, new application for grant funding if desired, and should not assume the application will automatically be approved.

Applications for Stand Down funds will be accepted from State Workforce Agencies, State and local Workforce Investment Boards, Veterans Service Organizations (VSOs), local public agencies, and non-profit organizations including community and faith-based organizations. The USDOL is not authorized to award grant funds to organizations that are registered with the Internal Revenue Service (IRS) as a 501(c)(4) organization.

All applications for Stand Down grant funding must be submitted to the appropriate State Director for Veterans' Employment and Training (DVET) at least ninety (90) days prior to the event. Address and contact information for each State DVET can be found at: http://www.dol.gov/vets/aboutvets/contacts/main.htm. Events approved for grant funding in any fiscal year must be held prior to December 31st of the following fiscal year. For example, all Stand Down events awarded funding for FY 2011 (October 1, 2010 through September 30, 2011) must be held on or before December 31, 2011.

Stand Down grant awards are contingent upon a Federal appropriation or a continuing resolution each Federal fiscal year. Therefore, applications submitted after July 1st for events to be held after September 30th may be held for consideration for funding contingent upon Federal funding availability. Grant applicants should not obligate requested grant funding toward Stand Down expenses unless officially notified of a grant award.

SUPPLEMENTARY INFORMATION:

I. Funding Opportunity Description

Stand Down is a military term referring to an opportunity to achieve a brief respite from combat. Troops assemble in a base camp to receive new clothing, hot food, and a relative degree of safety before returning to the front. Today more than 160 organizations across the country partner with local businesses, government agencies, and community- and faith-based service providers to hold Stand Down events for homeless Veterans and their families in the local community.

Each year, the Assistant Secretary for Veterans' Employment and Training awards HVRP grants to expedite the reintegration of homeless Veterans into the labor force through programs that enhance employment and training opportunities and promote self-sufficiency. The critical services provided at a Stand Down may supply the catalyst a homeless Veteran needs to take steps to reintegrate into society by improving job readiness and opportunities for employment. Typically, services available at these events include temporary shelter, showers, haircuts, meals, clothing, hygiene care kits, medical examinations, immunizations, legal advice, State identification cards, veteran benefit information, training program information, employment services, and referral to other supportive services.

Stand Down funding is a non-competitive grant awarded on a first-come, first-served basis until available funding is exhausted. For the purpose of a Stand Down grant award, applicants must describe a plan that clearly demonstrates that grant funding will be used to purchase or rent goods and services for homeless Veterans only. While both Veteran and non-veteran participants may attend Stand Down events, grant funding can only be used to purchase goods and services, to include food and meals, for the Veterans that participate. The following minimum services should be provided to those participants:

• Department of Veterans Affairs (VA) medical and mental health services;

• Department of Labor—State Workforce Agency employment and training services to include Disabled Veterans' Outreach Program (DVOP) specialist and Local Veterans' Employment Representative (LVER) participation where available;

• An assortment of hot and/or cold foods;

• An assortment of clothing appropriate for the local climate; and

• Referral services to secure emergency housing on-the-spot.

II. Allowable Costs

Stand Down grant funds must be used to enhance employment and training opportunities or to promote the self-sufficiency of homeless Veterans through paid work. The homeless do not always have access to basic hygiene supplies necessary to maintain their health and confidence. Lack of shelter limits their ability to prepare for and present themselves at job interviews or be contacted for follow-up. Basic services such as showers, haircuts, attention to health concerns and other collaborative services provided at Stand Down can give the homeless participants a greater sense of self, improving their chances of securing and maintaining employment. Therefore, grant funds may be used to support Stand Down activities such as:

• The purchase of food, bottled water, clothing, sleeping bags, one-person tents, backpacks filled with non-perishable foods, hygiene care kits, and non-prescription reading glasses for Veteran participants;

• The purchase of gift cards for food, minor time-limited legal services, consumer credit services, and gasoline gift cards for Veteran participants;

• The purchase of job search media such as employment guides or literature in hard copy or on portable storage media, etc);

• Special one-time costs for the duration of the Stand Down event such as rental of facilities and/or tents, electricity, equipment, portable toilets and communications or internet access;

• The purchase of janitorial supplies, kitchen supplies, and advertising materials such as event posters;

• The hiring of security personnel;

• The rental of transportation equipment (bus, van, car, taxi, etc.) and/or purchase of gasoline to provide transportation of homeless Veterans to and from the Stand Down event; and

• The purchase or rental of other pertinent items and services for homeless Veteran participants and their families as deemed appropriate by VETS.

III. Funding Restrictions

Stand Down grant funds may not be used to pay for administrative costs and administrative and/or programmatic staff. Stand Down grant funds may not be used to purchase t-shirts, hats, or other clothing items for volunteers, pen sets, military and veteran type patches/medals, memento gifts for staff members, visitors, or volunteers, or any other supplementary/replacement item(s) that has not been approved by the DVET. Applicants must provide details for every planned expenditure in the budget narrative. Any planned expenses listed only as “other” or “miscellaneous” must be clarified prior to processing the grant application.

Stand Down grant funding cannot be used to pay for health care related expenses. All medical examinations, to include dental and optometry examinations, should be provided by the VA or other community provider. Purchase of prescription eye wear and dental work is considered a medical care expense and is not allowable. Non-prescription reading glasses are considered an allowable expense. Applicants should explore all opportunities to secure health related services through the local VA Medical Center or VA Outpatient Clinic.

VETS reserves the right to disapprove any proposed cost not consistent with the funding restrictions in this announcement.

IV. Award Information

The maximum amount that can be awarded to support a local Stand Down event is $10,000 per applicant per fiscal year. If the event is held for one (1) day, the maximum amount that can be awarded is $7,000. An applicant is normally allowed one grant award per fiscal year.

V. Eligibility Information

1. Eligible Applicants

The following organizations may apply for grants under this solicitation: State and local Workforce Boards, VSOs, local public agencies, and non-profit organizations including community and faith-based organizations. Organizations registered with the Internal Revenue Service as a 501(c)(4) organizations are not eligible to apply for this funding opportunity.

2. Cost Sharing or Matching

Cost sharing and matching funds are not required. However, VETS strongly encourages applicants to leverage other available resources to maximize the goods and services provided to homeless Veteran participants at Stand Down events.

3. Other Eligibility Requirements

A. All applicants for Federal funding are required to include a Dun and Bradstreet Number (DUNS) with their application. Applicants can obtain a DUNS number at: http://www.dnb.com or by phone at 1-866-705-5711.

B. After receiving a DUNS number, all grant applicants must register as a vendor with the Central Contractor Registration (CCR) at: http://www.ccr.gov or by phone at 1-888-227-2423. The CCR should become active within 24 hours of completion. Applicants with questions regarding registration should contact the CCR Assistance Center at 1-888-227-2423. After registration, grant applicants will receive a confirmation number. The grantee listed point of contact will also receive a Trader Partnership Identification Number (TPIN) via mail. The TPIN is, and should remain, a confidential password.

VI. Application Content

To be considered responsive, all applications for Stand Down grant funding must include:

1. An original applicant letter requesting Stand Down funds signed in blue ink. The applicant letter must include an attestation that the individual who signed the SF 424 is authorized to enter into an agreement with the USDOL;

2. A Program Narrative that states the need for the Stand Down, geographical area to be served, estimated number of homeless Veterans to be served, their needs, and expected results of the Stand Down, and the role of the DVOP specialist, LVER and other One-Stop Career Center staff. It must also include a timeline for completion of all Stand Down event activities. The timeline must clearly indicate critical dates in the planning, execution, and follow-up process and if applicable, demonstrate the need to draw down awarded funding in advance of the event date (funding will be made available for draw down no earlier than 30 days prior to the event date). The timeline must include the date the post-event report is due to the DVET (30 days following the end of the Federal fiscal quarter in which the Stand Down was held) as explained in Section VIII below;

3. Original Standard Form (SF) 424, Application for Federal Assistance, (OMB No. 4040-0004) signed in blue ink. The SF-424 can be downloaded from http://www.grants.gov or at Appendix A as described in X below. Note: The Grant Officer will only accept the most current version of the SF 424 (the current version expires in 2012). Versions of the form with expiration dates that have passed will not be accepted;

4. SF 424A, Budget Information—Non-Construction Programs (OMB No. 4040-0006). The SF-424A can be downloaded from http://www.grants.gov or at Appendix B as described in X below;

5. Budget Narrative—A detailed description of each planned expenditure listed on the SF 424A. The description should describe or indicate the methodology used to determine the cost estimates such as price per quantity, if the item will be purchased or rented, and whether the items will be utilized by the participants or assist the volunteer(s) at the event. As a cost category VETS does not accept categories designated only as “Other” or “Miscellaneous.” Budget narratives must clearly itemize all expenditures;

6. Original signed Assurances and Certifications Signature Page, described at Appendix C in X below;

7. Survey on Ensuring Equal Opportunity for Applicants (OMB No. 1894-0010), described as Appendix D in X below;

8. A copy of the Central Contractor Registration confirmation number. Please do not send the Trader Partnership Identification Number (see Section III. 3. A.);

9. Letters of support, particularly from the local One-Stop Career Centers and/or DVOP specialists and LVER staff, VA, Department of Housing and Urban Development (HUD) or the local Continuum of Care (COC), VSOs, State and local government agencies, local businesses, and local non-profit organizations including community-based and faith-based organizations; and

10. If applicable, a copy of the Internal Revenue Service documentation indicating approval of non-profit status, for example: 501(c)(3), 501(c)(19) etc.

VII. Award Administration Information

Stand Down funding is a non-competitive grant awarded on a first-come, first-served basis until available funding is exhausted. Funding is subject to approval by the Grant Officer, depending on such factors as urban, rural and geographic balance, the availability of funds, prior performance and which proposals are most advantageous to the Government. If approved, the Grant Officer will notify the grantee through a grant award letter.

The grantee will also receive a financial form to complete in order for the USDOL Office of Financial Management Operations to set-up an account in the Health and Human Services, Payment Management System (HHS/PMS). The grantee must submit the completed form as directed in order to be able to electronically draw down awarded funding. The form should be returned via FedEx, UPS, or other non-U.S. Postal Service provider to avoid processing delays. Questions or problems relating to the funding paperwork or processes should be referred to the USDOL Office of Financial Management Operations at (202) 693-4479.

After setting up the account, the grantee will be able to draw down funds to reimburse approved expenses already incurred and to cover approved expenses that will be paid within three (3) days of the draw down. Funds requested for draw down through the HHS/PMS are directly deposited into the designated account within 24 hours of the request. Since grantees may draw funds down in more than one quarter, up to and after the date of the Stand Down event, grantees are required to complete a Federal Financial Report (SF 425) no later than forty-five (45) days after the end of each quarter in which all or part of their grant award was received (February 14th, May 15th, August 14th, and November 14th). Instructions for completing this requirement are provided in the HHS/PMS information packet. Grantees must print hard copies of all SF 425s submitted to HHS/PMS and include them with the post-event report submitted to the appropriate DVET/GOTR (as described in VIII. below).

VIII. Required Post-Event Activities and Reporting

All Stand Down awarded funds should be drawn down by the grantee within 90 calendar days of the Stand Down event. Otherwise, the Department of Labor may reallocate these funds for other purposes if practicable. All Stand Down funds awarded for any fiscal year must be electronically drawn down by no later than November 30th of the following fiscal year. In other words, if a Stand Down is held on July 12, 2011 (FY 2011), all funds should be drawn down within 90 days or by October 10, 2011. They must be drawn down before November 30, 2011 (FY 2012).

No later than thirty (30) calendar days after the end of the Federal fiscal quarter in which the Stand Down is held, grantees must report actual event activities and expenditures to the appropriate DVET and to the USDOL Office of Procurement Services. For example, if a Stand Down is held on July 27th, it is held in the Federal fiscal quarter that ends on September 30th. Therefore the post-event report is due to the DVET no later than October 30th. The required content of the report will be provided to grantees with the Special Grant Provisions made available with the grant award letter.

Grantees that anticipate experiencing any delay in submitting this report should immediately contact the appropriate DVET and provide a justification to request an extension. If VETS disapproves a particular expenditure, the grantee will be notified in writing with an explanation for the disapproval and instructions to electronically return the funds to the HHS/PMS account within 15 calendar days if already drawn down.

Any failure to comply with the guidance and reporting requirements set forth in the Stand Down Special Grant Provisions provided with the Grant Award letter may be taken into consideration in future funding award decisions by the U.S. Department of Labor, Veterans' Employment and Training Service.

IX. Agency Contacts

Questions regarding this announcement should be directed to the DVET in your State. Contact information for each DVET is located in the VETS Staff Directory at the following webpage: http://www.dol.gov/vets/aboutvets/contacts/main.htm.

X. Other Information

All HVRP grantees awarded 1st year grant awards as of July 1, 2010 are eligible for a separate non-competitive Stand Down grant award. Competitive HVRP grantees awarded July 1, 2008 and July 1, 2009 are authorized to utilize existing funds for Stand Down purposes.

Appendices: (Located on the VETS homepage at: http://www.dol.gov/vets. Follow link for Stand Down Grants and Required Forms under Competitive Grants:

Appendix A: Application for Federal Assistance, SF-424

Appendix B: Budget Information, SF-424A

Appendix C: Assurances and Certifications Signature Page

Appendix D: Survey on Ensuring Equal Opportunity for applicants

1. Acknowledgement of USDOL Funding.

A. Printed Materials/Intellectual Property: In all circumstances, the following must be displayed on printed materials prepared by the grantee while in receipt of USDOL grant funding: “Preparation of this item was funded by the United States Department of Labor under Grant No. [Insert the appropriate grant number].” All printed materials must also include the following notice: “This workforce product was funded by a grant awarded by the U.S. Department of Labor's Veterans' Employment and Training Service. The product was created by the grantee and does not necessarily reflect the official position of the U.S. Department of Labor and/or the Veterans' Employment and Training Service. The U.S. Department of Labor and/or the Veterans' Employment and Training Service makes no guarantees, warranties, or assurances of any kind, express or implied, with respect to such information, including any information on linked sites and including, but not limited to, accuracy of the information or its completeness, timeliness, usefulness, adequacy, continued availability, or ownership. This product is copyrighted by the institution that created it. Internal use by an organization and/or personal use by an individual for non-commercial purposes are permissible. All other uses require the prior authorization of the copyright owner.”

B. Public references to grant: When issuing statements, press releases, requests for proposals, bid solicitations, and other documents describing projects or programs funded in whole or in part with Federal money, all grantees receiving Federal funds must clearly state:

• The percentage of the total costs of the program or project, which will be financed with Federal money;

• The dollar amount of Federal financial assistance for the project or program; and

• The percentage and dollar amount of the total costs of the project or program that will be financed by non-governmental sources.

C. Use of USDOL Logo: The Grant Officer must approve the use of the USDOL logo. In addition, once approval is given the following guidance is provided:

• The USDOL logo may be applied to USDOL-funded material prepared for distribution, including posters, videos, pamphlets, research documents, national survey results, impact evaluations, best practice reports, and other publications of global interest. The grantee(s) must consult with USDOL on whether the logo may be used on any such items prior to final draft or final preparation for distribution. In no event will the USDOL logo be placed on any item until USDOL has given the Grantee permission to use the logo on the item.

• All documents must include the following notice: “This documentation does not necessarily reflect the views or policies of the U.S. Department of Labor, nor does mention of trade names, commercial products, or organizations imply endorsement by the U.S. Government.”

2. OMB Information Collection No 1225-0086, Expires November 30, 2012:

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information.

Send comments regarding the burden estimated or any other aspect of this collection of information, including suggestions for reducing this burden, to the U.S. Department of Labor, to the attention of Michel Smyth, Departmental Clearance Officer, 200 Constitution Avenue, NW., Room N1301, Washington, DC 20210. Comments may also be e-mailed to DOL_PRA_PUBLIC@dol.gov.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Please do not send your completed application to the omb. send it to the sponsoring agency as specified in this solicitation.

Signed at Washington, DC, March 2, 2011.
Cassandra Mitchell,
Grant Officer.

[FR Doc. 2011-5347 Filed 3-9-11; 8:45 am]

BILLING CODE 4510-79-P